FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

3PL Logistics, Inc. (NVO), 1401 N. Wood Dale Road, Wood Dale, IL 60191, Officer: Hyung Tae Kim, President (QI), Application Type: New NVO License

A America Cargo International Logistics LLC (NVO & OFF), 5900 NW. 97th Avenue, Unit #1, Miami, FL 33178, Officers: Olga Aguirre, Manager (QI), Diana Renjifo, Manager/Member, Application Type: New NVO & OFF License

ADN Logistics Group, LLC (OFF), 12030 SW. 129th Court, #103, Miami, FL 33186, Officer: Lourdes P. Goderich, Member (QI), Application Type: New OFF License

Advantex Express Inc. (OFF), 4402 Theiss Road, Humble, TX 77338, Officers: Todd McKinnon, Assistant Secretary, FMC Compliance (QI), Steven Preston, CEO, Application Type: QI Change

Agility Logistics Corp. (OFF), 240 Commerce, Irvine, CA 96202, Officers: John Hubers, Vice President (QI), Francese Casamitjana, President, Application Type: QI Change

Aya Logistics Inc. (NVO & OFF), 1260 Lunt Avenue, Elk Grove Village, IL 60007, Officers: Yanping Meng, Treasurer (QI), Xiqian (aka Steven) Wei, President, Application Type: New NVO & OFF License

Blue Ocean Logistics Corporation dba B.O Logistic Corp (NVO), 2461 W. 205th Street, B-105, Torrance, CA 90501, Officer: Bok Kun Yeom, President (QI), Application Type: New NVO License

Blue Wave Shipping LLC (NVO & OFF), 10 Millo Place, Little Ferry, NJ 07643, Officer: Mona A. Soliman, President (QI), Application Type: New NVO & OFF License

Cheryl G. Wilson dba JC Logistics (NVO & OFF), 28612 Redondo Beach Drive S, Des Moines, WA 98198, Officer: Cheryl G. Wilson, Sole Proprietor (QI), Application Type: Add OFF Service

Contamar Shipping Corporation (OFF), 27 Park Place, Suite 215, New York, NY 10007, Officers: Brian Castellana, Vice President (QI), Joseph Castellana, President (QI), Application Type: Add Trade Names CGC Line (for NVO) and CGC Logistics (for OFF)/QI Change

E-Cargoway Logistics USA, Inc. (NVO & OFF), 1515 Kona Drive, Compton, CA 90220, Officers: Won Rok (aka Steve) Choi, CFO (QI), Myeong H. Kim, CEO, Application Type: QI Change

Fago International, Inc. (NVO & OFF), 9682 Telstar Avenue, Suite 101, El Monte, CA 91731, Officers: Lynn H. Tran, Secretary (QI), Zheng Feng, CFO, Application Type: New NVO & OFF License

Flat Rate International, LLC (NVO & OFF), 27 Bruckner Blvd., Bronx, NY 10454, Officers: Israel Kessler, Executive Vice President (QI), Sharone Ben-Harosh, President, Application Type: QI Change

Freight Forwarding Network Corp. dba Costa Rica Carriers dba Freightnet (NVO), 12600 NW. 25th Street, Suite 107D, Miami, FL 33182, Officers: Sergio I. Lotero, President (QI), Stephen A. Blass, Secretary, Application Type: Change Trade Name to A&E Freight

Gabbro Global, LLC (NVO), 18353 US Highway 20, East Dubuque, IL 61025, Officers: Zheng Bin Ng, Director of Operations (QI), Todd Colin, CEO, Application Type: New NVO License

GAL GROUP INC. (NVO & OFF), 1667 Elmhurst Road, Elk Grove Village, IL 60007, Officers: Benny K. Clark, Vice President (QI), Pui L. Yu, President, Application Type: New NVO & OFF License

GLS Logistic Solutions, LLC (NVO), 3622 Riviera Ct., Coral Gables, FL 33134, Officers: Adelaida M. Echanique, Managing Member (QI), Patricio A. Barreiro, Managing Member, Application Type: New NVO License

Godspeed Transportation Inc (NVO & OFF), 743 El Mirador Drive, Fullerton, CA 92835, Officers: Yun S. Kang, President (QI), Shinhak Kang, Secretary, Application Type: New NVO & OFF License

Grandgood International, Inc. (NVO), 19254 E. Walnut Drive, City of Industry, CA 91745, Officers: Biyu Gao, President (QI), Ruxun Yang, Vice President, Application Type: New NVO License

HOC USA, INC. (NVO & OFF), 400 Riverwalk Parkway, Suite 200B, Tonawanda, NY 14150, Officers: Kim M. Host, Executive Vice President (QI), Stephen Cartwright, President, Application Type: New NVO & OFF License

Intransia LLC (NVO), 2701 NW. Boca Raton Blvd., Suite 218, Boca Raton, FL 33431, Officer: Nick Babus, Member (QI), Application Type: New NVO License

JSK Logistics LLC dba JSK Lines (NVO & OFF), 4 Wernik Place, Metuchen, NJ 08840, Officers: Jigar J. Choksi, Member (QI), Rumin H. Shah, Member, Application Type: QI Change

Kin Services, Inc. (NVO & OFF), 2027 Wainwright Court, Palatine, IL 60074, Officers: Majetete Balanganayi, President (QI), Ngalula Ivette Balanganayi, Secretary, Application Type: Add NVO Service

Linchpin Worldwide Logistics, Inc (NVO), 550 S. Serrano Avenue, Suite 311, Los Angeles, CA 90020, Officer: Sung Joon Kwak, President (QI), Application Type: New NVO License

Marine Bulk Freight Forwarding, S.A. De C.V. (NVO), Parque De Granada No. 71, Suite P.H. 504, Huixquilucan, Estado de Mexico 52785 Mexico, Officers: Moises S. Leon, President (QI), Moises S. Aviles, Secretary, Application Type: Add Trade Name Sea Marine Transport

Mass Parts, LLC dba ASG Cargo & Logistics (NVO & OFF), 5055 NW. 74th Avenue, Suite 7, Miami, FL 33166, Officers: Gabriel A. Garrido, Manager (QI), Albarosa Dugarte, Manager, Application Type: New NVO & OFF License

NVO Container Line Inc. dba Global Logistics USA (NVO & OFF), 1074 Broadway, Suite 102, West Long Branch, NJ 07764, Officers: Johannes Peet, Vice President (QI), Monika Sachdev, President, Application Type: QI Change

O.K. Cargo Corp. (NVO & OFF), 1720 NW. 94th Avenue, Miami, FL 33172, Officers: Jorge L. Garcia, President (QI), Nora V. Garcia, Vice President, Application Type: Add Trade Name GV USA Logistics

On Board International, Inc. (NVO & OFF), 2702 Temple Avenue, Long Beach, CA 90806, Officers: Evangeline A. Castano, Vice President (QI), Jose J. Castano, Sr., Application Type: Add NVO Service

Ontario Ltd. dba Qtrex International (NVO), 5185 Timberlea Blvd., Mississauga, Ontario, Canada, Officers: Hardutt Lachmansingh, President (QI), Tulsiedai Lachmansingh, Treasurer, Application Type: New NVO License

Oregon International Air Freight Co. dba OIA Global Logistics (NVO & OFF), 17230 NE. Sacramento Street, Portland, OR 97230, Officers: William D. Brady, Assistant Secretary (QI), Charles E. Hornecker, President, Application Type: Add Trade Name OIA Global

Overseas Moving Specialists, Inc. dba International Sea & Air Shipping (NVO), 115 Meacham Avenue, Elmont, NY 11003, Officers: Boaz Aviani, Vice President (QI), Ivy Aviani, President, Application Type: QI Change

Pass Trans, Inc. (NVO), 3530 Wilshire Blvd., Suite 1200, Los Angeles, CA 90010, Officers: Soon Bum An, CEO (QI), Seok Jun Choi, CFO, Application Type: New NVO License

Polmar Cargo, Inc. (NVO & OFF), 1225 NW. 93rd Court, Doral, FL 33172, Officers: Jesus A. Kauam, President (QI), Kenny Acosta, Secretary, Application Type: QI Change

Premier Van Lines International Inc. (NVO), 2509 S. Power Road, Suite 207, Mesa, AZ 85209, Officers: Heidi E. Lomax, Vice President (QI), James A. Haddow, President (QI), Application Type: QI Change

Priority RoRo Services, Inc. (NVO), Pier 15, Miraflores Avenue, San Juan, PR 00904, Officers: Wilmarie Rivera-Romero, Secretary (QI), Vinicio Mella, President, Application Type: New NVO License

Reza Rostami dba Pan World Trans (NVO & OFF), 5406 Juniper Court, Colleyville, TX 76034, Officer: Reza Rostami, President (QI), Application Type: Add NVO Service/Business Structure Change to Intercargo Management, Inc. dba Pan World Trans

Savitransport Inc. (NVO), 148-08 Guy R. Brewer Blvd., Jamaica, NY 11434, Officers: Kevin M. Kennedy, President (QI), Filippo Occaso, Secretary, Application Type: New NVO License

Seahorse Container Lines, Inc. (NVO), 10731 Walker Street, Suite B, Cypress, CA 90630, Officers: Carlo DeAtouguia, Vice President Operations (QI), Michael Dugan, President (QI), Application Type: QI Change

Shiner Trading Company, LLC. (OFF), 391 Curtner Avenue, Suite #I, Palo Alto, CA 94306, Officer: Xin You, Member/Manager (QI), Application Type: New OFF License

Sky Freight Forward Inc. (NVO & OFF), 8545 NW 72nd Street, Miami, FL 33166, Officers: Becxi Z. Santos, Secretary (QI), Miguel Mayorga, President, Application Type: New NVO & OFF License

Sparx Logistics USA Limited (NVO & OFF), 7621 Little Avenue, Suite 113, Charlotte, NC 28226, Officers: John W. Dellinger, Jr., President (QI), Dan Zalomek, Secretary, Application Type: New NVO & OFF License

Sprint Cargo Corp. (NVO), 36-36 33rd Street, Suite 207, Astoria, NY 11106, Officers: Bini Gopal, President (QI), Pauljerry Koilparampil, Secretary, Application Type: QI Change

SSL Logistics Cargo, Inc. (OFF), 60 NW 37th Avenue, Suite 608, Miami, FL 33125, Officer: Luis A. LLedo, President (QI), Application Type: New OFF License

Suddath Global Logistics, LLC dba Suddath Global Logistics (NVO & OFF), 815 South Main Street, Jacksonville, FL 32207, Officers: Robert D. Gordon, Vice President (QI), Barry Vaughn, CEO, Application Type: QI Change

Super You Global (NVO), 391 Curtner Avenue, Suite #I, Palo Alto, CA 94306, Officer: Xin You, President (QI), Application Type: New NVO License

Top Logistics, Inc. (NVO & OFF), 1484 E. Valencia Drive, Fullerton, CA 92831, Officers: Yoon (aka Christina) Y. Yang, CFO (QI), Byung H. Jung, CEO, Application Type: New NVO & OFF License

By the Commission.
Dated: December 20, 2013.
Karen V. Gregory,
Secretary.

[FR Doc. 2013-30903 Filed 12-26-13; 8:45 am]

BILLING CODE 6730-01-P